DEPARTMENT OF ENERGY

Federal Energy Regulatory Commission

Combined Notice of Filings #1

Take notice that the Commission received the following electric corporate filings:

Docket Numbers: EC21-65-000.

Applicants: AEP Generation Resources Inc., Eagle Creek Racine Hydro, LLC.

Description: AEP Generation Resources Inc. and Eagle Creek Racine Hydro, LLC submit Supplemental Information Regarding Authorization to Transfer Racine Hydroelectric Station.

Filed Date: 3/17/21.

Accession Number: 20210317-5181.

Comments Due: 5 p.m. ET 3/26/21.

Take notice that the Commission received the following electric rate filings:

Docket Numbers: ER14-1594-003; ER14-1596-003.

Applicants: Lone Valley Solar Park I LLC, Lone Valley Solar Park II LLC.

Description: Notice of Change in Status of Lone Valley Solar Park I LLC, et al.

Filed Date: 3/17/21.

Accession Number: 20210317-5203.

Comments Due: 5 p.m. ET 4/7/21.

Docket Numbers: ER20-1455-003.

Applicants: Cordova Energy Company LLC.

Description: Compliance filing: Reactive Power Compliance Filing to be effective 4/1/2020.

Filed Date: 3/18/21.

Accession Number: 20210318-5162.

Comments Due: 5 p.m. ET 4/8/21.

Docket Numbers: ER21-1462-000.

Applicants: Midcontinent Independent System Operator, Inc., American Transmission Company LLC.

Description: § 205(d) Rate Filing: 2021-03-18_SA 2802 ATC-City of Two Rivers 1st Rev CFA to be effective 5/18/2021.

Filed Date: 3/18/21.

Accession Number: 20210318-5047.

Comments Due: 5 p.m. ET 4/8/21.

Docket Numbers: ER21-1463-000.

Applicants: The Dayton Power and Light Company.

Description: § 205(d) Rate Filing: DP&L-Ghormley Facilities Agreement Filing to be effective 5/18/2021.

Filed Date: 3/18/21.

Accession Number: 20210318-5051.

Comments Due: 5 p.m. ET 4/8/21.

Docket Numbers: ER21-1464-000.

Applicants: AEP Texas Inc.

Description: § 205(d) Rate Filing: AEPTX-Monte Alto Windpower 2nd A&R GIA to be effective 3/12/2021.

Filed Date: 3/18/21.

Accession Number: 20210318-5053.

Comments Due: 5 p.m. ET 4/8/21.

Docket Numbers: ER21-1465-000.

Applicants: Pacific Gas and Electric Company.

Description: Notice of Termination of Service Agreement No. 363 with Alamo Springs I, LLC of Pacific Gas and Electric Company.

Filed Date: 3/17/21.

Accession Number: 20210317-5198.

Comments Due: 5 p.m. ET 4/7/21.

Docket Numbers: ER21-1466-000.

Applicants: Southern California Edison Company.

Description: § 205(d) Rate Filing: Letter Agreement Banning Energy Storage Project SA No. 1137 to be effective 3/19/2021.

Filed Date: 3/18/21.

Accession Number: 20210318-5091.

Comments Due: 5 p.m. ET 4/8/21.

Docket Numbers: ER21-1467-000.

Applicants: Pacific Gas and Electric Company.

Description: Notice of Termination of Service Agreement No. 364 with Alamo Springs II, LLC of Pacific Gas and Electric Company.

Filed Date: 3/17/21.

Accession Number: 20210317-5200.

Comments Due: 5 p.m. ET 4/7/21.

Docket Numbers: ER21-1468-000.

Applicants: Midcontinent Independent System Operator, Inc., ITC Midwest LLC.

Description: § 205(d) Rate Filing: 2021-03-18_SA 3643 ITC Midwest-Ledyard Windpower E&P (J836) to be effective 3/16/2021.

Filed Date: 3/18/21.

Accession Number: 20210318-5098.

Comments Due: 5 p.m. ET 4/8/21.

Docket Numbers: ER21-1469-000.

Applicants: California Independent System Operator Corporation.

Description: § 205(d) Rate Filing: 2021-03-18 Maximum Import Capability Filing to be effective 6/1/2021.

Filed Date: 3/18/21.

Accession Number: 20210318-5114.

Comments Due: 5 p.m. ET 4/8/21.

Docket Numbers: ER21-1470-000.

Applicants: Mid-Atlantic Interstate Transmission, LLC, PJM Interconnection, L.L.C.

Description: § 205(d) Rate Filing: MAIT submits ECSA, SA No. 5928 to be effective 5/18/2021.

Filed Date: 3/18/21.

Accession Number: 20210318-5117.

Comments Due: 5 p.m. ET 4/8/21.

Docket Numbers: ER21-1471-000.

Applicants: Public Service Company of Colorado.

Description: § 205(d) Rate Filing: 2021-03-18 PSCo-Sun Mtn Solar-E&P-630-0.0.0 to be effective 3/19/2021.

Filed Date: 3/18/21.

Accession Number: 20210318-5136.

Comments Due: 5 p.m. ET 4/8/21.

Docket Numbers: ER21-1472-000.

Applicants: Old Dominion Electric Cooperative.

Description: § 205(d) Rate Filing: ODEC Submission of Revised Cost-of-Service Rate Schedule to be effective 5/18/2021.

Filed Date: 3/18/21.

Accession Number: 20210318-5143.

Comments Due: 5 p.m. ET 4/8/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 18, 2021.
Nathaniel J. Davis, Sr.,
Deputy Secretary.

[FR Doc. 2021-06101 Filed 3-24-21; 8:45 am]

BILLING CODE 6717-01-P